DEPARTMENT OF TRANSPORTATION

Maritime Administration

[Docket No. MARAD 2004 19552]

Information Collection Available for Public Comments and Recommendations

ACTION: Notice and request for comments.

SUMMARY: In accordance with the Paperwork Reduction Act of 1995, this notice announces the Maritime Administration's (MARAD's) intention to request extension of approval for three years of a currently approved information collection.

DATES: Comments should be submitted on or before January 18, 2005.

FOR FURTHER INFORMATION CONTACT: Murray Bloom, Maritime Administration, 400 Seventh St., SW., Washington, DC 20590. Telephone: 202-366-5320; FAX: 202-366-7485; or e-mail: murray.bloom@marad.dot.gov. Copies of this collection also can be obtained from that office.

SUPPLEMENTARY INFORMATION: Title of Collection: Application for Designation of Vessels as American Great Lakes Vessels.

Type of Request: Extension of currently approved information collection.

OMB Control Number: 2133-0521.

Form Numbers: None.

Expiration Date of Approval: Three years from date of approval by the Office of Management and Budget.

Summary of Collection of Information: In accordance with Public Law 101-624, the Secretary of Transportation issued requirements for the submission of applications for designation of vessels as American Great Lakes Vessels. Owners who wish to have this designation must certify that their vessel(s) meets certain criteria established in 46 CFR part 380.

Need and Use of the Information: Application is mandated by statute to establish that a vessel meets statutory criteria for obtaining the benefits of eligibility to carry preference cargoes.

Description of Respondents: Shipowners of merchant vessels.

Annual Responses: One response.

Annual Burden: 1.25 hours.

Comments: Comments should refer to the docket number that appears at the top of this document. Written comments may be submitted to the Docket Clerk, U.S. DOT Dockets, Room PL-401, 400 Seventh Street, SW., Washington, DC 20590. Comments also may be submitted by electronic means via the Internet at http://dms.dot.gov/submit. Specifically address whether this information collection is necessary for proper performance of the functions of the agency and will have practical utility, accuracy of the burden estimates, ways to minimize this burden, and ways to enhance the quality, utility, and clarity of the information to be collected. All comments received will be available for examination at the above address between 10 a.m. and 5 p.m. e.d.t. (or e.s.t.), Monday through Friday, except Federal holidays. An electronic version of this document is available on the World Wide Web at http://dms.dot.gov.

Privacy Act: Anyone is able to search the electronic form of all comments received into any of our dockets by the name of the individual submitting the comment (or signing the comment, if submitted on behalf of an association, business, labor union, etc.). You may review DOT's complete Privacy Act Statement in the Federal Register published on April 11, 2000 (Volume 65, Number 70; Pages 19477-78), or you may visit http://dms.dot.gov. (Authority: 49 CFR 1.66.)

By Order of the Maritime Administrator.
Dated: November 9, 2004.
Joel C. Richard,
Secretary, Maritime Administration.

[FR Doc. 04-25343 Filed 11-15-04; 8:45 am]

BILLING CODE 4910-81-P